Proclamation 10301 of October 29, 2021

National Family Caregivers Month, 2021

By the President of the United States of America

A Proclamation

Every day, millions of Americans provide essential care and medical assistance to their loved ones. These acts of love, commitment, and compassion enable their family members to receive the support they need to live a life with dignity. This has been especially true throughout the COVID-19 pandemic, during which Americans of all ages have made substantial sacrifices to keep family members safe and healthy. During National Family Caregivers Month, we recognize the important role of our Nation's family caregivers and thank them for the invaluable and instrumental care they provide.

While the opportunity to provide care to a loved one can be a blessing and a source of connection, it often requires sacrifice. Millions of Americans have sacrificed jobs and altered careers in order to perform caregiving duties. Workers, their families, and our economy suffer when workers are forced to choose between their jobs and their caregiving responsibilities or between putting food on the table and caring for a relative. Too many Americans who need caregiving support struggle with the high costs of caring for a family member in need, or providing long-term care for people with disabilities or older adults.

My Administration is committed to strengthening American families and easing the burdens of caregiving. That is why my American Rescue Plan provided an additional $145 million in funding for the National Family Caregiver Support Program, which continues to help State and community organizations support family and informal caregivers through in-home programs including counseling, respite care, and training. The American Rescue Plan also provided States with additional Medicaid funding to strengthen and enhance their home- and community-based services (HCBS) program. My Administration's Build Back Better agenda will build on this down payment by continuing to invest in the caregiving infrastructure for HCBS and increasing pay and benefits to address the direct care workforce crisis. I will also fight to expand paid family and medical leave nationwide. Each of these elements is critical to better supporting family caregivers. We want to see our Nation's paid caregivers, including the majority of home health care workers and over 90 percent of child care workers who are women—disproportionately women of color—have jobs that provide dignity, safety, and decent pay.

Earlier this year, the RAISE (Recognize, Assist, Include, Support, and Engage) Family Caregiving Advisory Council, with support from the Department of Health and Human Services, delivered an initial report on how the Federal, State, Tribal, and local governments can work with our partners in the private sector to better support our Nation's family caregivers, and we will continue working to provide that support.

As my own family members have been caregivers, I understand the struggles family caregivers face and the importance of the care they provide. This month, as we continue our fight to expand access to caregiving, we recognize our caregivers who wake up every single day to do this physically and emotionally demanding yet vitally important work.

NOW, THEREFORE, I, JOSEPH R. BIDEN JR., President of the United States of America, by virtue of the authority vested in me by the Constitution and the laws of the United States, do hereby proclaim November 2021 as National Family Caregivers Month. I encourage all Americans to reach out to those who provide care for their family members, friends, and neighbors in need, to honor and to thank them.

IN WITNESS WHEREOF, I have hereunto set my hand this twenty-ninth day of October, in the year of our Lord two thousand twenty-one, and of the Independence of the United States of America the two hundred and forty-sixth.

[FR Doc. 2021-24120

Filed 11-2-21; 8:45 am]

Billing code 3395-F2-P